DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 21, 2007.

Address Comments to: Record Center, Pipeline and Hazardous Materials Safety Administration, U.S. Department of Transportation, Washington, DC 20590.

Comments should refer to the application number and be submitted in triplicate. If confirmation of receipt of comments is desired, include a self-addressed stamped postcard showing he special permit number.

FOR FURTHER INFORMATION CONTACT: Copies of the applications are available for inspection in the Records Center, Nassif Building, 400 7th Street, SW., Washington, DC or at http://dms.dot.gov.

This notice of receipt of applications for special permit is published in accordance with part 107 of the Federal hazardous materials transportation law (49 U.S.C. 5117(b); 49 CFR 1.53(b)).

Issued in Washington, DC, on May 15, 2007.
Delmer Billings,
Director, Special Permits & Approvals Programs, Office of Hazardous Materials, Special Permits & Approvals.

NEW SPECIAL PERMITS
Applicant No. | Docket No. | Applicant | Regulation(s) affected | Nature of special permits thereof
14502-N |  | Ropak Southeast, LaGrange, GA | 49 CFR 178.3(a)(1), 178.502(a)(1) | To authorize the transportation in commerce of approximately 3900 UN 1H1 drums that were incorrectly marked as jerricans (3H1). (Modes 1, 2, 3, 4, 5)
14503-N |  | Gay Lea Foods Co-operative Limited, Guelph, OH | 49 CFR 173.306(b)(1) | To authorize the transportation in commerce of an aerosol foodstuff in a nonrefillable metal container similar to a DOT Specification 2P. (Modes 1, 2, 3, 4, 5)
14505-N |  | Arkema, Inc., Philadelphia, PA | 49 CFR 173.31(a) 179.13 | To authorize the transportation in commerce of tank cars, containing certain refrigerant gases in Division 2.2, with a maximum gross weight on rails of 286,000 pounds. (Mode 2)
14506-N |  | Jacobs Engineering, Anchorage, AK | 49 CFR 173.4(a)(1)(i) | To authorize the transportation in commerce of Class 3 material in a non-DOT Specification packaging. (Modes 1, 2, 3, 4, 5, 6)
14507-N |  | Gulf Coast Hydrostatic Testers, LLC, Denham Springs, LA | 49 CFR 180.205(f), 180.209(a), 172.203(a), 172.301(c) | To authorize the retesting of DOT Specification 3A, 3AA, and 3AL cylinders by means other than the hydrostatic retest required in 49 CFR 180.209. (Modes 1, 3, 4)
14508-N |  | Gulf Coast Hydrostatic Testers, LLC, Denham Springs, LA | 49 CFR 180.205(f), (g); § 180.209(a), (b)(1)(iv); § 172.203(a); § 172.301(c); § 173.302a(b)(2),(4), (5) | To authorize the retesting of DOT Specifications 3A, 3AA, and 3AL cylinders by means other than the hydrostatic retest required in 49 CFR 180.209 and to allow filling pressure 10% greater than marked service pressure. (Modes 1, 3, 4)
14509-N |  | Pacific Consolidated Industries, LLC, Riverside CA | 49 CFR 173.302(a)(1), 173.304a (a)(1), 175.3 | To authorize the manufacturing, marking, sale and use of brass-lined filament wound cylinders for use in transporting certain Division 2.1 and 2.2 gases. (Modes 1, 2, 3, 5)
14510-N |  | Clean Earth Systems, Inc., Tampa, FL | 49 CFR 173.12(b), 173.12(b)(2)(i) | To authorize the transportation in commerce by motor vehicle of certain hazardous materials in UN4G fiberboard boxes lined with polyethylene. (Mode 1)
14512-N |  | Amfuel, Magnolia, AZ | 49 CFR 173.241 | To authorize the manufacture, marking sale and use of non-DOT specification bulk packagings for the transportation in commerce of certain Class 8 hazardous materials. (Mode 1)
14513-N |  | Hazmat Services, Inc., Anaheim, CA | 49 CFR 173.12(b)(2)(ii), 172.101(b)(1), 173.12(b)(1) | To authorize the transportation in commerce of chemically-compatible hazardous materials with different hazard classes in lab packs. (Mode 1)
14515-N |  | STAKO | 49 CFR 173.302(a); 173.304(a); 175.3 | To authorize the manufacture, marking and sell of non-DOT specification fiber reinforced plastic cylinders built to DOT FRP-1 standard for use in transporting various flammable and non-flammable gases. (Modes 1, 2, 3, 4, 5)

[FR Doc. 07-2513 Filed 5-21-07; 8:45 am]

BILLING CODE 4909-60-M